DEPARTMENT OF HEALTH AND HUMAN SERVICES

National Institutes of Health

National Institute on Alcohol Abuse and Alcoholism; Amended Notice of Meeting

Notice is hereby given of a change in the meeting of the Biomedical Research Review Subcommittee, June 10, 2019, 08:30 a.m. to June 10, 2019, 05:00 p.m., National Institutes of Health, National Institute on Alcohol Abuse and Alcoholism, 6700B Rockledge Drive, Bethesda, MD 20817, which was published in the Federal Register on February 11, 2019, 84 FR 3201.

The meeting notice is amended to change the meeting date from June 10, 2019 to June 11, 2019. The meeting is closed to the public.

Dated: March 11, 2019.
Melanie J. Pantoja,
Program Analyst, Office of Federal Advisory Committee Policy.

[FR Doc. 2019-04747 Filed 3-13-19; 8:45 am]

BILLING CODE 4140-01-P